DEPARTMENT OF ENERGY

Industrial Technology Innovation Advisory Committee

AGENCY: Office of Energy Efficiency and Renewable Energy, Department of Energy.

ACTION: Notice of solicitation of nominations.

SUMMARY: In accordance with the Federal Advisory Committee Act, the U.S. Department of Energy (DOE) is soliciting nomination for candidates to the Industrial Technology Innovation Advisory Committee (Committee).

DATES: Deadline for Advisory Committee member nominations is August 1, 2022.

ADDRESSES: The nominee's name, resume, biography, and any letters of support must be submitted via one of the following methods:

(1) Email to: ITIAC@ee.doe.gov.

(2) Overnight delivery service to: Antonio M. Bouza, Designated Federal Officer, Office of Energy Efficiency and Renewable Energy, U.S. Department of Energy, Mail Stop EE-5B, 1000 Independence Avenue SW, Washington, DC 20585-0121.

FOR FURTHER INFORMATION CONTACT: Antonio M. Bouza, Designated Federal Officer, Office of Energy Efficiency and Renewable Energy, U.S. Department of Energy, 1000 Independence Avenue SW, Washington, DC 20585; telephone at (202) 586-4563, or email: ITIAC@ee.doe.gov.

SUPPLEMENTARY INFORMATION: The Committee is established pursuant to section 455 of the Energy Independence and Security Act of 2007, Public Law 110-140 (hereafter, “EISA”) as added by Public Law 116-260, div. Z, section 6004 and in accordance with the Federal Advisory Committee Act (FACA), as amended, 5 U.S.C., App. 2, and the rules and regulations in implementation of that Act. The Committee is established under the authority of DOE. The Committee will advise the Secretary of Energy (Secretary) with respect to the Industrial Emissions Reductions Technology Development Program (the program) by identifying and evaluating any technologies being developed by the private sector relating to the focus areas described in section 454(c) of the EISA; identifying technology gaps in the private sector or other Federal agencies in those focus areas, and making recommendations on how to address those gaps; surveying and analyzing factors that prevent the adoption of emissions reduction technologies by the private sector; and recommending technology screening criteria for technology developed under the program to encourage adoption of the technology by the private sector. The Committee shall also develop a strategic plan on how to achieve the program's goals and, in consultation with the Secretary and the Director of the Office of Science and Technology Policy (Director), propose missions and goals for the program consistent with the purposes of the program described in section 454(b)(1) of the EISA.

The Committee shall be comprised of not fewer than 16 members and not more than 20 members, who shall be appointed by the Secretary, in consultation with the Director. The members shall be appointed by the Secretary, in consultation with the Director, to serve as representatives, Federal Government employees, and special Government employees (SGEs) in accordance with the following membership requirements articulated in the EISA:

• Not less than 1 representative of each relevant Federal agency, as determined by the Secretary;

• Chair of the Secretary of Energy Advisory Board, if that position is filled;

• Not less than 2 representatives of labor groups;

• Not less than 3 representatives of the research community, which shall include academia and National Laboratories;

• Not less than 2 representatives of nongovernmental organizations;

• Not less than 6 representatives of small- and large-scale industry, the collective expertise of which shall cover every focus area described in section 454(c) of EISA;

• Not less than 1 representative of a State government; and

• Any other individuals the Secretary, in coordination with the Director, determines to be necessary to ensure that the Committee is comprised of a diverse group of representatives of industry, academia, independent researchers, and public and private entities.

The Committee members will serve for a term of up to two years, and may be reappointed for up to two successive terms. Appointments may be made in a manner that allows the terms of the members serving at any time to expire at spaced intervals to ensure continuity in the functioning of the Committee. Committee members will serve at the discretion of the Secretary. The Chairperson of the Committee will be selected by the Secretary. The Chairperson will serve a two-year term and may be reappointed for an additional term. Committee members will meet periodically, approximately twice a year. When vacancies occur, the Secretary will, in consultation with the Director, identify appointment nominees who can address the Committee's needs pursuant to EISA. Subcommittee membership is drawn from that of the full Committee and thus reflects much of the balance described previously. Additionally, technical experts may be appointed to the subcommittee in order to provide additional expertise and fulfill any lacking points of view relative to the subcommittee's mission/function.

Members must be able to actively participate in the tasks of the Committee including, but not limited to, attending, and participating in in-person meetings, reviewing materials, and regularly participating in conference calls, working groups, and formal subcommittees. The Secretary will consider nominees who can best support, in an advisory capacity.

Members of the Committee serve without compensation; however, members may be reimbursed in accordance with the Federal Travel Regulations for authorized travel and per diem expenses.

Nominations are open to all individuals without regard to race, color, religion, sex, national origin, age, mental or physical handicap, marital status, or sexual orientation. Members will be selected based on their individual qualifications as detailed in their nomination package, as well as the overall need to achieve a balanced representation of viewpoints, subject matter expertise, and regional knowledge. As part of achieving a balanced representation of viewpoints, the Secretary and the Director will strive for the Committee to reflect the principles of inclusion, equity, and diversity, and to ensure that the Committee's recommendations strive for equitable distribution of benefits for all Americans, including people of color and others who have been historically underserved, marginalized, and adversely affected by persistent poverty and inequality. The Secretary and the Director also will strive for geographic diversity in the composition of the Committee.

The Secretary will, in consultation with the Director, consider nominations of all qualified individuals to ensure that the Committee includes the areas of experience noted previously. Individuals may nominate themselves or other individuals, and professional associations and organizations may nominate one or more qualified persons for consideration. Nominations shall state that the nominee is willing to serve as a member and carry out the duties of the Committee. A nomination package should include the following information for each nominee: A letter of nomination (1) stating the name, affiliation, position title, and contact information for the nominee; (2) the basis for the nomination (i.e., what specific attributes recommend him/her for service in this capacity), and (3) the nominee's field(s) of experience within the focus areas listed in section 454(c) of the EISA, as codified at 42 U.S.C. 17113(c), and (4) the name, return address, email address, and daytime telephone number at which the nominator can be contacted. A nomination package should provide an adequate description of the nominee's qualifications, including information that will enable DOE to make an informed decision regarding meeting the membership requirements and objectives.

DOE expressly values diversity, equity, inclusion, and accessibility, and encourages nominations of appropriately qualified candidates from diverse backgrounds.

All nomination information should be provided in a single, complete package by August 1, 2022. Interested applicants should send their nomination package to ITIAC@ee.doe.gov.

Signed in Washington, DC, on June 14, 2022.
LaTanya Butler,
Deputy Committee Management Officer.

[FR Doc. 2022-13186 Filed 6-17-22; 8:45 am]

BILLING CODE 6450-01-P